DEPARTMENT OF HEALTH AND HUMAN SERVICES

Centers for Disease Control and Prevention

[Program Announcement 04138]

Evaluation of the Use of Rapid HIV Testing in the United States; Notice of Availability of Funds-Amendment

A notice announcing the availability of fiscal year (FY) 2004 funds for a cooperative agreement Evaluation of the Use of Rapid HIV testing in the United States was published in the Federal Register April 1, 2004, Volume 69, Number 63, pages 17163-17166. The notice is amended as follows: Page 17163, first column, under “Purpose” change to, “The purpose of the program is to evaluate how to rapid tests for HIV are being implemented and used across the United States in clinical practice, and identify potential opportunities to provide guidance to assist providers in making decisions on the appropriate use of these tests.”

Page 17163, second column under “Purpose” last paragraph, add “Thus, rapid tests for HIV may be used in many different types of venues including physician office laboratories, clinics, hospital emergency rooms other departments, public health departments and non-clinical testing sites.”

Page 17163, third column, under “Activities” first bullet, change to, “Provide leadership in developing a program to determine the national scope of rapid HIV test utilization, with a focus on utilization in the private sector, including the number and type of sites where rapid HIV tests are offered, the specific tests used, testing volume, purpose for testing, characteristics of patient populations tested, and other characteristics related to the sites where rapid HIV testing is being implement and used.”

Page 17163, third column, under “Activities” second bullet, change to, “Evaluate how these tests are integrated into the health care delivery system, for example methods used for specimen collection and handling, results reporting, confirmation of preliminary positive rapid test results, and use of results by practitioners.”

Page 17163, third column, under “Activities” third bullet, change to, “Catalog problems that sites have identified and reported using these tests, such as lack of follow-up on preliminary positives, false positive, or negative results, testing delivery issues, costs of testing, and difficulties with provision of training to testing personnel.”

Page 17164, III.1. Eligible Applicants, delete community-based organizations.

Dated: May 18, 2004.
William P. Nichols,
Acting Director, Procurement and Grants Office, Centers for Disease Control and Prevention.

[FR Doc. 04-11633 Filed 5-21-04; 8:45 am]

BILLING CODE 4163-18-P